TENNESSEE VALLEY AUTHORITY

Paperwork Reduction Act of 1995, as Amended by Pub. L. 104-13; Submission for OMB Review; Comment Request

AGENCY: Tennessee Valley Authority.

ACTION: Proposed collection; comment request.

SUMMARY: The proposed information collections described below will be submitted to the Office of Management and Budget (OMB) for review, as required by the Paperwork Reduction Act of 1995 (44 U.S.C. Chapter 35, as amended). The Tennessee Valley Authority is soliciting public comments on these proposed collections as provided by 5 CFR 1320.8(d)(1). Requests for information, including copies of the information collection proposed and supporting documentation, should be directed to the Agency Clearance Officer: Mark R. Winter, Tennessee Valley Authority, 1101 Market Street (MP 3C), Chattanooga, Tennessee 37402-2801; (423) 751-6004.

Comments should be sent to the Agency Clearance Officer no later than July 7, 2008.

SUPPLEMENTARY INFORMATION: Type of Request: Regular Submission; proposal for new data collection.

Title of Information Collection: Reservoir Land Management Plan.

Frequency of Use: On occasion.

Type of Affected Public: Individuals or households, business or other for-profit, non-profit institutions, farms, Federal Government, and State or local governments.

Small Business or Organizations Affected: Yes.

Estimated Number of Annual Responses: 5,000.

Estimated Total Annual Burden Hours: 2,500.

Estimated Average Burden Hours Per Response: .5 hour.

Need For and Use of Information: As part of TVA's efforts to update Reservoir Land Management Plans, TVA will conduct surveys to gather public input from the public regarding zoning allocations for TVA properties. Information gathered will be used to satisfy the requirements of the NEPA public input process and will be used to aid TVA in making zone allocation decisions regarding use of TVA lands.

Type of Request: Regular Submission.

Title of Information Collection: Residential Saturation Survey.

Frequency of Use: On occasion.

Small Business or Organizations Affected: No.

Estimated Number of Annual Responses: 10,000.

Estimated Total Annual Burden Hours: 3,300.

Estimated Average Burden Hours Per Response: .33 hour.

Need For and Use of Information: Residential information is collected as an independent measure of indirect program impact, effectiveness of communication efforts, changing demographics, program administration, changes in the saturation of other fuels, potential interest in energy efficiency, drivers of energy efficiency and changes in saturation of other electrical equipment. Results are used with the energy right Program and power planning purposes at TVA.

Steven A. Anderson,
Senior Manager, IT Planning and Governance, Information Services.

[FR Doc. E8-9941 Filed 5-5-08; 8:45 am]

BILLING CODE 8120-08-P